DEPARTMENT OF EDUCATION

[Docket No.: ED-2023-SCC-0178]

Agency Information Collection Activities; Submission to the Office of Management and Budget for Review and Approval; Comment Request; Application for Grants Under the Centers for International Business Education (1894-0001)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before October 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Timothy Duvall, 202-987-0383.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for Grants under the Centers for International Business Education (1894-0001).

OMB Control Number: 1840-0616.

Type of Review: An extension without change of a currently approved ICR.

Respondents/Affected Public: Private sector

Total Estimated Number of Annual Responses: 27.

Total Estimated Number of Annual Burden Hours: 692.

Abstract: This information collection (OMB 1840-0616) includes application instructions and forms for the Centers for International Business Education (CIBE) Program (CFDA Number 84.220A), authorized under title VI of the Higher Education Act of 1965, as amended (20 U.S.C. 1130-1). This is an extension of a currently approved information collection (application), due to a Change Due to Adjustment in Agency Estimate.

The Centers for International Business Education (CIBE) program offers consulting services on international business and marketing to businesses in their areas, develop business language curriculum, and teach international business topics to undergraduate and graduate students. CIBEs also partner with business and professional associations to offer internships and other real-world experience to prepare career-ready international business students. CIBEs serve to strengthen the American economy in our increasingly interconnected world by enabling U.S. citizens and companies to compete in the international business arena.

Approval of this collection is necessary in order to conduct future CIBE program competitions.

The authorizing legislation and program-specific regulations are incorporated in the application package attached to this supporting statement.

This collection is being submitted under the Streamlined Clearance Process for Discretionary Grant Information Collections (1894-0001). Therefore, the 30-day public comment period notice will be the only public comment notice published for this information collection.

Dated: September 26, 2023.
Kun Mullan,
PRA Coordinator, Strategic Collections and Clearance, Governance and Strategy Division, Office of Chief Data Officer, Office of Planning, Evaluation and Policy Development.

[FR Doc. 2023-21424 Filed 9-28-23; 8:45 am]

BILLING CODE 4000-01-P